DEPARTMENT OF THE TREASURY

Office of the Comptroller of the Currency

Proposed Information Collection; Submission for OMB Review

AGENCY: Office of the Comptroller of the Currency (OCC), Treasury.

ACTION: Notice and request for comment.

SUMMARY: The OCC, as part of its continuing effort to reduce paperwork and respondent burden, invites the general public and other Federal agencies to take this opportunity to comment on a continuing information collection, as required by the Paperwork Reduction Act of 1995. Currently, the OCC is soliciting comment concerning a renewal of an existing collection titled “Customer Complaint Form.” The OCC also is giving notice that the collection has been submitted to OMB for review.

DATES: You should submit written comments by: October 27, 2011.

ADDRESSES: You should direct all written comments to: Communications Division, Office of the Comptroller of the Currency, Mailstop 2-3, Attention: 1557-0232, 250 E Street, SW., Washington, DC 20219. In addition, comments may be sent by fax to (202) 874-5274, or by electronic mail to regs.comments@occ.treas.gov. You can inspect and photocopy the comments at the OCC, 250 E Street, SW., Washington, DC 20219. You can make an appointment to inspect the comments by calling (202) 874-5043. For security reasons, the OCC requires that visitors make an appointment to inspect comments. You may do so by calling (202) 874-4700. Upon arrival, visitors will be required to present valid government-issued photo identification and to submit to security screening in order to inspect and photocopy comments.

Additionally, you should send a copy of your comments to OCC Desk Officer, 1557-0232, by mail to U.S. Office of Management and Budget, 725 17th Street, NW., #10235, Washington, DC 20503, or by fax to (202) 395-6974.

FOR FURTHER INFORMATION CONTACT: You can request additional information or a copy of the collection from Mary Gottlieb, (202) 874-5090, Legislative and Regulatory Activities Division (1557-0202), Office of the Comptroller of the Currency, 250 E Street, SW., Washington, DC 20219.

SUPPLEMENTARY INFORMATION: The OCC is requesting comment on the following information collection:

Title: Customer Complaint Form.

OMB Control No.: 1557-0232.

Description: The customer complaint form was developed as a courtesy for those who contact the Office of the Comptroller of the Currency's Customer Assistance Group and wish to file a formal, written complaint. The form allows consumers to focus their issues and provide a complete picture of their concerns, but is entirely voluntary. It is designed to give consumers a simple way to provide all necessary information thereby eliminating time-consuming follow-up calls which may delay the resolution process. Completion of the form allows the Customer Assistance Group to process the complaint more efficiently.

The Customer Assistance Group uses the information submitted in these forms to create a record of the OCC's contacts with the consumer, capture information that can be used to resolve the consumer's issues, and create a database of information that is incorporated into the OCC's supervisory process.

On July 21, 2010, President Barack Obama signed into law the Dodd-Frank Wall Street Reform and Consumer Protection Act, Public Law 111-203, 124 Stat. 1376 (2010) (Dodd-Frank Act). As part of the comprehensive package of financial regulatory reform measures enacted, Title III of the Dodd-Frank Act transfers the powers, authorities, rights and duties of the Office of Thrift Supervision to other banking agencies, including the OCC, on July 21, 2011. The Dodd-Frank Act also abolishes the OTS ninety days after the transfer date. As a result of the Dodd-Frank Act, OCC is incorporating the burden from OTS's Consumer Complaint Form (OMB Control Nos. 1550-0126; 1557-0291) of 1,180 consumer complaints to this collection.

The Dodd-Frank Act also requires the transfer of certain consumer protection functions from the OCC to the new Bureau of Consumer Financial Protection. The OCC will revise this collection if it is determined that this collection of information is affected by this transfer.

Type of Review: Regular.

Affected Public: Businesses or other for-profit.

Number of Respondents: 81,180.

Total Annual Responses: 81,180.

Frequency of Response: On occasion.

Total Annual Burden Hours: 6,738.

An agency may not conduct or sponsor, and a respondent is not required to respond to, an information collection unless the information collection displays a currently valid OMB control number. On March 23, 2011, the OCC issued a notice for 60 days of comment. 76 FR 16477. No comments were received. Comments continue to be invited on:

(a) Whether the collection of information is necessary for the proper performance of the functions of the agency, including whether the information shall have practical utility;

(b) The accuracy of the agency's estimate of the burden of the collection of information;

(c) Ways to enhance the quality, utility, and clarity of the information to be collected;

(d) Ways to minimize the burden of the collection on respondents, including through the use of automated collection techniques or other forms of information technology; and

(e) Estimates of capital or start-up costs and costs of operation, maintenance, and purchase of services to provide information.

Dated: September 22, 2011.
Michele Meyer,
Assistant Director, Legislative & Regulatory Activities Division.

[FR Doc. 2011-24925 Filed 9-27-11; 8:45 am]

BILLING CODE 4810-33-P